DEPARTMENT OF LABOR

Office of the Secretary

Submission for OMB Review; Comment Request

March 6, 2003.

The Department of Labor (DOL) has submitted the following public information collection reqest (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for EBSA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employee Benefits Security Administration (EBSA).

Type of Review: Extension of a currently approved collection.

Title: Definition of Plans Assets—Participant Contributions.

OMB Number: 1210-0100.

Affected Public: Business or other for-profit and not-for-profit institutions.

Frequency: On occasion.

Type of Response: Recordkeeping, reporting, and third party disclosure.

Number of Respondents: 1.

Number of Annual Responses: 251.

Estimated Time Per Respondent: 3 hours.

Total Burden Hours: 3.

Total Annualized Capital/Startup Costs: $0.

Total Annual Costs (operating/maintaining systems or purchasing services): $332.

Description: Sponsors and other parties-in-interest to Employee Retirement Income Security Act (ERISA)—covered pension plans that cannot segregate employee contributions from the employer's general assets in the time required under ERISA are provided with an extension procedure. 29 CFR 2510.3-102 provides guidance for fiduciaries, participants, and beneficiaries of employee benefit plans on the requirements for transmission of employee contributions withheld from wages to the pension plan. In addition, for these employers who may have difficulty meeting regulation deadlines for participant contribution transmissions, the extension provision of the regulation provides an alternate means of employer compliance with the regulation while providing participants, beneficiaries, and the Department with sufficient information to protect their rights under ERISA. Specifically, the ICR includes notification, bonding, and certification requirements that must be completed by the employer electing to use the extension provision.

Ira L. Mills,
Departmental Clearance Officer.

[FR Doc. 03-6046 Filed 3-12-03; 8:45 am]

BILLING CODE 4510-29-M